DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Coral Reef Conservation Program Administration.

OMB Control Number: 0648-0448.

Form Number(s): None.

Type of Request: Regular (extension of a currently approved information collection).

Number of Respondents: 35.

Average Hours Per Response: 2.

Burden Hours: 70.

Needs and Uses: This request is for extension of a currently approved information collection.

The Coral Reef Conservation Act of 2000 (Act) was enacted to provide a framework for conserving coral reefs. The Coral Reef Conservation Grant Program, under the Act, provides funds to broad-based applicants with experience in coral reef conservation to conduct activities to protect and conserve coral reef ecosystems. The information submitted by applicants is used to determine if a proposed project is consistent with the NOAA coral reef conservation priorities and the priorities of authorities with jurisdiction over the area where the project will be carried out. As part of the application, NOAA requires a Data and Information Sharing Plan in addition to the standard required application materials.

Affected Public: Business or other for-profit organizations; not-for-profit institutions; state, local, or tribal government.

Frequency: Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 17, 2015.
Sarah Brabson,
NOAA PRA Clearance Offcer.

[FR Doc. 2015-03535 Filed 2-20-15; 8:45 am]

BILLING CODE 3510-JE-P